DEPARTMENT OF ENERGY

Federal Energy Regulatory Commission

Combined Notice of Filings

August 3, 2010.

Take notice that the Commission has received the following Natural Gas Pipeline Rate and Refund Report filings:

Docket Numbers: RP06-336-000

Applicants: Pine Needle LNG Company, LLC,

Pine Needle LNG Company, LLC

Description: Motion of Pine Needle LNG Company, LLC to Amend Settlement and Request for Shortened Answer Period and Expedited Action.

Filed Date: 07/16/2010

Accession Number: 20100716-5037

Comment Date: 5 p.m. Eastern Time on Thursday, August 5, 2010.

Docket Numbers: RP10-1030-000

Applicants: National Fuel Gas Distribution Corporation

Description: National Fuel Gas Supply Corporation submits their 138th Revised Sheet 9 to FERC Gas Tariff, Fourth Revised Volume 1, to be effective 8/1/10.

Filed Date: 07/30/2010

Accession Number: 20100802-0209

Comment Date: 5 p.m. Eastern Time on Wednesday, August 11, 2010.

Docket Numbers: RP10-1031-000

Applicants: Cimarron River Pipeline, LLC

Description: Cimarron River Pipeline, LLC submits Third Revised Sheet 17 to FERC Gas Tariff, Original Volume 1, and request waiver of the provisions of Section 12.5, to be effective 9/1/10.

Filed Date: 07/30/2010

Accession Number: 20100802-0210

Comment Date: 5 p.m. Eastern Time on Wednesday, August 11, 2010.

Docket Numbers: RP10-1032-000

Applicants: Caledonia Energy Partners, LLC

Description: Caledonia Energy Partners, LLC submits Original Sheet No 1 et al. to FERC Gas Tariff, First Revised Volume 1 to replace its current tariff.

Filed Date: 07/30/2010.

Accession Number: 20100802-0212.

Comment Date: 5 p.m. Eastern Time on Wednesday, August 11, 2010.

Docket Numbers: RP10-1036-000.

Applicants: Algonquin Gas Transmission, LLC.

Description: Algonquin Gas Transmission, LLC submits tariff filing per 154.204: Negotiated Rate Agreement—TGP to be effective 8/1/2010.

Filed Date: 08/02/2010.

Accession Number: 20100802-5068.

Comment Date: 5 p.m. Eastern Time on Monday, August 16, 2010.

Docket Numbers: RP10-1037-000.

Applicants: Granite State Gas Transmission, Inc.

Description: Request for Limited Waiver by Granite State Transmission, Inc.

Filed Date: 08/02/2010.

Accession Number: 20100802-5073.

Comment Date: 5 p.m. Eastern Time on Monday, August 16, 2010.

Docket Numbers: RP10-1038-000.

Applicants: Gulf South Pipeline Company, LP.

Description: Gulf South Pipeline Company, LP submits tariff filing per 154.204: Devon-Texla Negotiated Rate filing to be effective 8/1/2010.

Filed Date: 08/02/2010.

Accession Number: 20100802-5088.

Comment Date: 5 p.m. Eastern Time on Monday, August 16, 2010.

Docket Numbers: RP10-1039-000.

Applicants: Equitrans, L.P.

Description: Equitrans' Big Sandy Pipeline Semi-Annual Retainage Filing.

Filed Date: 07/30/2010.

Accession Number: 20100730-5260.

Comment Date: 5 p.m. Eastern Time on Wednesday, August 11, 2010.

Docket Numbers: RP10-1040-000.

Applicants: Southern Star Central Gas Pipeline, Inc.

Description: Southern Star Central Gas Pipeline, Inc. submits tariff filing per 154.204: Third Party Storage 2010 to be effective 9/1/2010.

Filed Date: 08/02/2010.

Accession Number: 20100802-5107.

Comment Date: 5 p.m. Eastern Time on Monday, August 16, 2010.

Docket Numbers: RP10-1041-000.

Applicants: Southern LNG Inc.

Description: Southern LNG Inc. submits tariff filing per 154.203: SLNG Volume 1 to be effective 8/1/2010.

Filed Date: 08/02/2010.

Accession Number: 20100802-5131.

Comment Date: 5 p.m. Eastern Time on Monday, August 16, 2010.

Docket Numbers: RP10-1042-000.

Applicants: Cheyenne Plains Gas Pipeline Company, L.L.C.

Description: Cheyenne Plains Gas Pipeline Company, L.L.C. submits tariff filing per 154.203: Baseline to be effective 8/2/2010.

Filed Date: 08/02/2010.

Accession Number: 20100802-5139.

Comment Date: 5 p.m. Eastern Time on Monday, August 16, 2010.

Docket Numbers: RP10-1043-000.

Applicants: Southern Natural Gas Company.

Description: Southern Natural Gas Company submits tariff filing per 154.203: SNG Baseline Tariff Filing to be effective 8/2/2010.

Filed Date: 08/02/2010.

Accession Number: 20100802-5153.

Comment Date: 5 p.m. Eastern Time on Monday, August 16, 2010.

Docket Numbers: RP10-1044-000.

Applicants: MIGC LLC.

Description: MIGC LLC submits tariff filing per 154.203: MIGC LLC Baseline Filing to be effective 8/2/2010.

Filed Date: 08/02/2010.

Accession Number: 20100802-5164.

Comment Date: 5 p.m. Eastern Time on Monday, August 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. 2010-20266 Filed 8-16-10; 8:45 am]

BILLING CODE 6717-01-P